DEPARTMENT OF DEFENSE

Department of the Navy

Privacy Act of 1974; System of Records

AGENCY: Department of the Navy.

ACTION: Notice To Delete Systems of Records; N05822-1 Yokusuka Prison Health and Comfort Items.

SUMMARY: The Department of the Navy is deleting a system of records notice from its existing inventory of records systems subject to the Privacy Act of 1974, (5 U.S.C. 552a), as amended.

DATES: This proposed action will be effective without further notice on September 23, 2005 unless comments are received which result in a contrary determination.

ADDRESSES: Department of the Navy, PA/FOIA Policy Branch, Chief of Naval Operations, (DNS-36), 2000 Navy Pentagon, Washington, DC 20350-2000.

FOR FURTHER INFORMATION CONTACT: Ms. Doris Lama at (202) 685-6545.

SUPPLEMENTARY INFORMATION: The Department of the Navy systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: August 17, 2005.
Jeanette Owings-Ballard,
OSD Federal Register Liaison Officer, Department of Defense.

N05822-1

System name:

Yokusuka Prison Health and Comfort Items (February 22, 1993, 58 FR 10782).

Reason:

The Yokusuka Prison Health and Comfort Program has been discontinued and all files have been destroyed.

[FR Doc. 05-16672 Filed 8-23-05; 8:45 am]

BILLING CODE 5001-06-U